DEPARTMENT OF HEALTH AND HUMAN SERVICES

Indian Health Service

Notice of Listing of Members of the Indian Health Service's Senior Executive Service Performance Review Board (PRB)

The Indian Health Service (IHS) announces the persons who will serve on the Indian Health Service's Senior Executive Service Performance Review Board. This action is being taken in accordance with Title 5, U.S.C., Section 4314(c)(4), which requires that members of performance review boards be appointed in a manner to ensure consistency, stability, and objectivity in performance appraisals and requires that notice of the appointment of an individual to serve as a member be published in the Federal Register.

The following persons may be named to serve on the Performance Review Boards from 2020 to 2022, which oversee the evaluation of performance appraisals and compensation for Senior Executive Service, Senior Level/Senior Technical, and Title 42 executive equivalent members of the Indian Health Service.

Buchanan, Chris

Cooper, Jennifer

Cotton, Beverly

Curtis, Jillian

Driving Hawk, James

Grinnell, Randy (Chair)

Gyorda, Lisa

LaRoche, Darrell

Redgrave, Bryce

Smith, Ben

Tso, Roselyn

For further information about the IHS Performance Review Board, contact Nathan Anderson, Office of Human Resources, Indian Health Service, 5600 Fishers Lane, Rockville, MD 20857, Telephone 605-681-4940.

Michael D. Weahkee,
RADM, Assistant Surgeon General, U.S. Public Health Service, Director, Indian Health Service.

[FR Doc. 2020-22728 Filed 10-13-20; 8:45 am]

BILLING CODE 4165-16-P